FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011637-004.

Title: AMPAC Cooperative Working Agreement.

Parties: Mexican Line Limited, Hamburg Sud, Maruba S.C.A.

Synopsis: The proposed agreement amendment authorizes the parties to operate 11 vessels in a single string rather than 10 vessels in two separate strings. The amendment also clarifies the earliest date on which notice of resignation may be given. The parties have requested expedited review.

Agreement No.: 011757.

Title: CMA CGM/China Shipping Container Lines Cross Space Charter, Sailing and Cooperative Working Agreement.

Parties: CMA CGM, S.A., China Shipping Container Lines Co., Ltd.

Synopsis: The proposed agreement authorizes the parties to share vessel space in the trades between ports on the United States West Coast and ports in the Far East.

Agreement No.: 011758.

Title: CMA CGM/HJS PNX 2 Slot Charter Agreement.

Parties: CMA CGM, S.A., Hanjin Shipping Co., Ltd.

Synopsis: The proposed agreement authorizes CMA CGM to charter space on Hanjin's vessels in the trades between ports on the United States West Coast and ports in the Far East.

Agreement No.: 200006-006.

Title: Oakland-Senator-Cho Yang Terminal Agreement.

Parties: Port of Oakland, Senator Lines GmbH, Cho Yang Shipping Company, Ltd.

Synopsis: The proposed amendment corrects the name of one of the parties and extends the term of the agreement through May 1, 2001.

Dated: March 30, 2001.
By Order of the Federal Maritime Commission.
Bryant L. VanBrakle,
Secretary.

[FR Doc. 01-8288 Filed 4-3-01; 8:45 am]

BILLING CODE 6730-01-P